DEPARTMENT OF COMMERCE

National Oceanic and Atmospheric Administration

50 CFR Part 648

Fisheries of the Northeastern United States

CFR Correction

In Title 50 of the Code of Federal Regulations, Parts 600 to 659, revised as of October 1, 2009, on page 639, in § 648.92, remove the second paragraphs (b)(1)(iv) and (b)(1)(v).

[FR Doc. 2010-24660 Filed 9-29-10; 8:45 am]

BILLING CODE 1505-01-D